DEPARTMENT OF ENERGY

Federal Energy Regulatory Commission

Combined Notice of Filings #1

Take notice that the Commission received the following electric rate filings:

Docket Numbers: ER10-1945-001; ER10-1946-001; ER10-1942-005; ER10-2042-006; ER10-1936-001; ER10-1892-001; ER10-1886-001; ER10-1872-001; ER10-1871-001; ER10-1863-001; ER10-1859-001.

Applicants: Auburndale Peaker Energy Center, L.L.C., Broad River Energy LLC, Calpine Construction Finance Company, LP, Calpine Energy Services, L.P., Carville Energy LLC, Columbia Energy LLC, Decatur Energy Center, LLC, Mobile Energy LLC, Morgan Energy Center, LLC, Pine Bluff Energy, LLC, Santa Rosa Energy Center, LLC.

Description: Updated Market Power Analysis of Auburndale Peaker Energy Center, LLC et al.

Filed Date: 1/3/12.

Accession Number: 20120103-5297.

Comments Due: 5 p.m. ET 3/5/12.

Docket Numbers: ER10-2739-003; ER10-2743-002; ER10-1842-003; ER10-2793-002.

Applicants: Bluegrass Generation Company, L.L.C., DeSoto County Generating Company, LLC, LS Power Marketing, LLC, Calhoun Power Company, LLC.

Description: Updated Market Power Analysis of LS Power Marketing, LLC, et al.

Filed Date: 1/3/12.

Accession Number: 20120103-5294.

Comments Due: 5 p.m. ET 3/5/12.

Docket Numbers: ER10-3168-002.

Applicants: ArcLight Energy Marketing, LLC.

Description: Updated Market Power Analysis for the Southeast Region of ArcLight Energy Marketing, LLC.

Filed Date: 12/30/11.

Accession Number: 20111230-5222.

Comments Due: 5 p.m. ET 3/5/12.

Docket Numbers: ER12-753-000.

Applicants: RITELine Illinois, LLC, RITELine Indiana, LLC.

Description: RITELine Illinois, LLC submits tariff filing per 35.13(a)(2)(iii): RITELine Indiana 20120103 Filing to be effective 3/4/2012.

Filed Date: 1/3/12.

Accession Number: 20120103-5125.

Comments Due: 5 p.m. ET 1/24/12.

Docket Numbers: ER12-754-000.

Applicants: Calpine Energy Services, L.P.

Description: Calpine Energy Services, L.P. submits tariff filing per 35: Revised Market-Based Rate Tariff to be effective 1/4/2012.

Filed Date: 1/3/12.

Accession Number: 20120103-5218.

Comments Due: 5 p.m. ET 1/24/12.

Docket Numbers: ER12-755-000.

Applicants: Calpine Construction Finance Company, L.P.

Description: Calpine Construction Finance Company, L.P. submits tariff filing per 35: Revision to Market-Based Rate Tariff to be effective 1/4/2012.

Filed Date: 1/3/12.

Accession Number: 20120103-5228.

Comments Due: 5 p.m. ET 1/24/12.

Docket Numbers: ER12-756-000.

Applicants: ISO New England Inc., New England Power Pool.

Description: Filing of ICR-Related Values for 2015/2016 Capability Year.

Filed Date: 1/3/12.

Accession Number: 20120103-5285.

Comments Due: 5 p.m. ET 1/24/12.

Docket Numbers: ER12-757-000.

Applicants: ISO New England Inc.

Description: ISO New England Inc.'s Informational Filing for the Sixth Forward Capacity Auction.

Filed Date: 1/3/12.

Accession Number: 20120103-5286.

Comments Due: 5 p.m. ET 1/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2012.
Nathaniel J. Davis, Sr.,
Deputy Secretary.

[FR Doc. 2012-411 Filed 1-11-12; 8:45 am]

BILLING CODE 6717-01-P